OFFICE OF THE UNITED STATES TRADE REPRESENTATIVE

Generalized System of Preferences (GSP): Notice Regarding the Acceptance of Petitions To Grant a Competitive Need Limitation (CNL) Waiver

AGENCY: Office of the United States Trade Representative.

SUMMARY: The Office of the United States Trade Representative (USTR), in connection with the 2010 GSP Annual Review, has received petitions to waive the competitive need limitations (CNLs) on imports of certain products that are eligible for duty-free treatment under the GSP program. This notice announces those petitions that have been accepted for further review. All other petitions have been rejected. Authorization of the GSP program expires on December 31, 2010. If and when the program is reauthorized, a schedule for submission of public comments and for a public hearing on the petitions will be announced in the Federal Register.

FOR FURTHER INFORMATION CONTACT: Tameka Cooper, GSP Program, Office of the United States Trade Representative, 600 17th Street, NW., Washington, DC 20508. The telephone number is (202) 395-6971, the fax number is (202) 395-9674, and the e-mail address is Tameka_Cooper@ustr.eop.gov.

SUPPLEMENTARY INFORMATION: The GSP program provides for the duty-free importation of eligible articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

In a Federal Register notice dated July 15, 2010, USTR announced that the deadline for the filing of petitions requesting CNL waivers for the 2010 GSP Annual Review was November 16, 2010 (75 FR 41274). Of the petitions submitted in response to this notice, the GSP Subcommittee of the Trade Policy Staff Committee has accepted for review petitions on the following four products: (1) Lysine and its esters from Brazil (HTS 2922.41.00); (2) pneumatic tires from Sri Lanka (HTS 4011.93.80); (3) certain rubber gloves from Thailand (HTS 4015.19.10); and (4) calcium silicon ferroalloys from Argentina (HTS 7202.99.20).

Additional information regarding the petitions with respect to these articles is provided in the “List of CNL Waiver Submissions Accepted in the 2010 GSP Annual Review” that is posted on the USTR Web site (http://www.ustr.gov). Acceptance of a petition for review does not indicate any opinion with respect to the disposition on the merits of the petition. Acceptance indicates only that the listed petitions have been found eligible for review and that such review will take place.

Section 505 of the Trade Act states that duty-free treatment provided under the GSP shall not remain in effect after December 31, 2010. If and when the program is reauthorized, a schedule for submission of public comments and for a public hearing on the petitions will be announced in the Federal Register.

Receipt of Advice From the USITC

In accordance with authority delegated to the U.S. Trade Representative by the President, the U.S. Trade Representative has requested, pursuant to section 332(g) of the Tariff Act of 1930 and in accordance with section 503(c)(2)(A) of the 1974 Act, that the U.S. International Trade Commission (USITC) provide its advice on whether any industry in the United States is likely to be adversely affected by a waiver of the CNL specified in section 503(c)(2)(A) of the 1974 Act for the country specified with respect to the products cited above. The USITC has also been requested to provide advice as to the probable economic effect on U.S. industries producing like or directly competitive articles, on total U.S. imports, and on U.S. consumers.

William D. Jackson,
Deputy Assistant U.S. Trade Representative for the Generalized System of Preferences, Office of the U.S. Trade Representative.

[FR Doc. 2010-32859 Filed 12-28-10; 8:45 am]

BILLING CODE 3190-W1-P